DEPARTMENT OF HEALTH AND HUMAN SERVICES

Health Resources and Services Administration

Notice of Availability of Draft Policy Document for Comment

AGENCY: Health Resources and Services Administration (HRSA), HHS.

ACTION: Notice of availability and solicitation of comments.

SUMMARY: This is a Notice of Availability and request for comments on the draft policy document, “Emergency Management Program Expectations,” prepared by HRSA. This document is currently posted on the Internet at http://bphc.hrsa.gov. Comments will be reviewed and analyzed, and a summary and general response will be published as soon as possible after the deadline for receipt of comments.

DATES: Comments must be received by April 13, 2007.

ADDRESSES: Please send your comments to the following e-mail address: DPDgeneral@hrsa.gov.

Background: HRSA believes that community input is valuable to the development of policies and policy documents related to the implementation of HRSA programs, including the Health Center Program. In the August 29, 2006, Federal Register, HRSA announced its plan to periodically, as appropriate, solicit comments on some policies and policy documents via the HRSA Web site. The Emergency Management Program Expectations document is being posted as part of the implementation of this plan.

SUPPLEMENTARY INFORMATION: For additional information on this process, see the HRSA notice in the August 29, 2006, Federal Register (71 FR 51200).

Dated: February 16, 2007.
Elizabeth M. Duke,
Administrator.

[FR Doc. E7-3260 Filed 2-26-07; 8:45 am]

BILLING CODE 4165-15-P